DEPARTMENT OF TRANSPORTATION

National Highway Traffic Safety Administration

[Docket No. NHTSA-2006-23771]

State Traffic Safety Information System Improvement Grants

AGENCY: National Highway Traffic Safety Administration, DOT.

ACTION: Announcement of grants to support state traffic safety information system improvements.

SUMMARY: The National Highway Traffic Safety Administration (NHTSA) announces a grant program to improve State traffic safety information systems under Section 2006 of the Safe, Accountable, Flexible, Efficient Transportation Equity Act: A Legacy For Users (SAFETEA-LU). This Notice informs the 50 states, the District of Columbia, Puerto Rico, the Virgin Islands, Guam, American Samoa, the Commonwealth of the Northern Mariana Islands, through their Governors' Representatives for Highway Safety, and the Bureau of Indian Affairs (on behalf of the Indian tribes), of the application procedures to receive grants to be made available in fiscal years 2006 through 2009.

DATES: Applications must be received by the appropriate NHTSA Regional Office on or before June 15 of the fiscal year for which a State seeks a grant.

ADDRESSES: Applications must be submitted to the appropriate Regional Administrator.

FOR FURTHER INFORMATION CONTACT: For program issues, Jack Oates, Office of Traffic Injury Control, Injury Control Operations and Resources (NTI-200), NHTSA, 400 Seventh Street, SW., Room 5118, Washington, DC 20590, by phone at (202) 366-2121 or by e-mail at jack.oates@nhtsa.dot.gov. For legal issues, Dana Sade, Office of Chief Counsel, NCC-113, NHTSA, 400 Seventh Street, SW., Room 5219, Washington, DC 20590, by phone at (202) 366-1834 or by email at dana.sade@nhtsa.dot.gov.

SUPPLEMENTARY INFORMATION:

Background

Section 2006 of the Safe, Accountable, Flexible, Efficient Transportation Equity Act: A Legacy For Users (SAFETEA-LU) establishes a State traffic safety information system improvement grant program, administered by NHTSA. The purpose of this grant program is to support the development and implementation of effective programs by the States to: (1) Improve the timeliness, accuracy, completeness, uniformity, integration, and accessibility of the safety data that States need to identify priorities for national, State and local highway and traffic safety programs; (2) evaluate the effectiveness of efforts to make such improvements; (3) link the State data systems, including traffic records, with other data systems within the State, such as systems that contain medical, roadway, and economic data; and (4) improve the compatibility and interoperability of the States' data systems with national traffic safety data systems and data systems of other States and enhance NHTSA's ability to observe and analyze national trends in crash occurrences, rates, outcomes, and circumstances. Section 2006 authorizes $34.5 million in funding for each of four fiscal years from FY 2006 through FY 2009. The Section 2006 grant program is codified in 23 U.S.C. 408 (“the Section 408 Program”).

Today's Notice solicits applications for grants under this program. SAFETEA-LU provides that the amount of each first fiscal year grant shall be the higher of $300,000 or an amount determined by multiplying the amount appropriated to carry out the Section 408 Program for that fiscal year by the ratio that the funds apportioned to the State under section 402 for FY 2003 bears to the funds apportioned to all eligible States under section 402 for FY 2003. Each State that qualifies for a successive fiscal year grant shall be eligible to receive the higher of $500,000 or an amount determined by multiplying the amount appropriated to carry out the Section 408 Program for that fiscal year by the ratio that the funds apportioned to the State under section 402 for FY 2003 bears to the funds apportioned to all eligible States under section 402 for FY 2003. No State may receive a grant under this section in more than four years.

Requirements To Receive a Grant

First Year Grants

SAFETEA-LU provides that a State may qualify for a first year grant by demonstrating that it has: (a) Established a highway safety data and traffic records coordinating committee (a “TRCC”); and (b) developed a multiyear highway safety data and traffic records system strategic plan (a “Multiyear Plan” or “Strategic Plan”). In addition, the State must certify that it has adopted and uses model data elements identified under the Section 408 Program, or that the 408 grant funds it receives will be used toward adopting and using the maximum number of Model Data Elements as soon as practicable.

TRCC Requirement

In order to satisfy the TRCC requirement for a first year grant, SAFETEA-LU provides that a State TRCC must have a multidisciplinary membership that includes, among others, managers, collectors, and users of traffic records and public health and injury control data systems, and the authority to approve the State's Strategic Plan.

The role and function of a TRCC in the section 408 program is very similar to that of a “coordinating committee” in section 408's predecessor program on data improvements (23 U.S.C. 411). Therefore, consistent with the section 411 requirements, under which States already have established the necessary organizational structure, a TRCC should: (a) Include representatives from highway safety, highway infrastructure, law enforcement and adjudication, public health, injury control and motor carrier agencies and organizations; (b) have authority to review any of the State's highway safety data and traffic records systems and to review changes to such systems before the changes are implemented; (c) provide a forum for the discussion of highway safety data and traffic records issues and report on any such issues to the agencies and organizations in the State that create, maintain and use highway safety data and traffic records; (d) consider and coordinate the views of organizations in the State that are involved in the administration, collection and use of the highway safety data and traffic records system; (e) represent the interests of the agencies and organizations within the traffic records system to outside organizations; and (f) review and evaluate new technologies to keep the highway safety data and traffic records systems up-to-date.

Strategic Plan Requirement

SAFETEA-LU provides that a Strategic Plan shall be: (a) Approved by the State's TRCC; (b) address existing deficiencies in a State's highway safety data and traffic records system; ¹ (c) specify how deficiencies in the system were identified; (d) prioritize the needs and set goals for improving the system; (e) identify performance-based measures by which progress towards those goals will be determined; and (f) specify how the State will use section 408 and other funds of the State to address the needs and goals identified in its Strategic Plan.

¹ Consistent with concern expressed by the Government Accountability Office about the need for States to link traffic records assessment, strategic plans and progress reports, in addressing existing deficiencies, States should identify and discuss the recommendations contained in their most recent traffic records assessment or audit.

The Section 408 Program, like the Section 411 Program, requires that a State identify in its Strategic Plan specific performance-based measures. When Congress first introduced this performance-based measure requirement, NHTSA received numerous requests from States for technical assistance in identifying performance-based measures applicable to their highway safety data and traffic records systems. In response, NHTSA incorporated into its Traffic Records Highway Safety Advisory (the relevant portion of which is set forth in Appendix 3 to this guidance), a chapter detailing performance-based measures applicable to each of a State's information systems, including its crash, vehicle, driver, citation/adjudication, and injury surveillance systems.

States have incorporated the performance measures identified in NHTSA's Traffic Records Highway Safety Advisory into their Strategic Plans under section 411, and also have relied on those measures in establishing, updating and analyzing the performance of their highway safety data and traffic records systems. Therefore, under the Section 408 Program states should continue to incorporate into their Strategic Plans performance-based measures identified in Appendix 3, both as baselines or benchmarks for and as gauges of their progress towards achieving the goals and objectives identified in their Strategic Plans. Among other baseline measures identified in Appendix 3, States should specify in their Strategic Plans which MMUCC and NEMSIS data elements they currently use.

Model Data Elements Requirement

SAFETEA-LU provides that the Secretary shall, in consultation with the States and appropriate elements of the law enforcement community, determine the model data elements that are useful for observation and analysis of State and national trends in occurrences, rates, outcomes, and circumstances of motor vehicle traffic accidents, including the impact on traffic safety of the use of electronic devices while driving. As explained in more detail below, two sets of model data elements have been developed through collaborative efforts among NHTSA, the States, and other Federal and State stakeholders: the Model Minimum Uniform Crash Criteria (“MMUCC”) and the National Emergency Medical Services Information System (NEMSIS).² Therefore, in order to satisfy the model data elements requirement, a State must certify that it has adopted and uses the MMUCC and NEMSIS data elements,³ or that the 408 grant funds it receives will be used toward adopting and using the maximum number of MMUCC and NEMSIS data elements as soon as practicable.

² The MMUCC data elements may be accessed at: http://www.mmucc.us/guideline.aspx and the NEMSIS data elements may be accessed at: http://www.nemsis.org/PDFs /NEMSIS%20Version%202.2%20 Data%20Dictionary%20Final.pdf.

³ Other data elements may be relevant to a State's Highway Safety Data and Traffic Records systems such as data elements required by the Federal Motor Carrier Safety Administration and Federal Highway Administration. Funding sources other than section 408 are available to support the adoption of those data elements.

The MMUCC resulted from requests for technical assistance received by NHTSA from States interested in improving and standardizing their crash data systems. In response, NHTSA and the Federal Highway Administration worked with the Governors Highway Safety Association (“GHSA”),⁴ as well as numerous other Federal, State and academic stakeholders, to develop a voluntary minimum set of crash data elements that are accurate, reliable and credible within states, among states, and at the national level. Known as the MMUCC, these model data elements were incorporated into the assessment requirement of the section 411 program, so States already should be applying them to their crash data systems. One of the MMUCC elements, Data Element P-16 covering driver distraction, specifically addresses driver distraction by electronic communications devices, including cell phones, pagers, navigation devices, palm pilots and other such devices, as mandated by SAFETEA-LU.

⁴ At that time, GHSA was known as the National Association of Governors' Highway Safety Representatives or NAGHSR.

NEMSIS was developed in 2001 by the National Association of State EMS Officials (“NASEMSO”),⁵ with the assistance of NHTSA and the Department of Health and Human Services, in response to a need for greater uniformity and consistency in Emergency Medical Services data. NEMSIS is a voluntary set of data elements related to patient care and emergency response that has received widespread endorsement by the States for application to their EMS data systems.⁶

⁵ At that time, NASEMSO was known as the National Association of State EMS Directors or NASEMSD. NASEMSO is an organization made up of representatives of State EMS Officials.

⁶ After finalizing NEMSIS, NASEMESO prepared a memorandum of understanding to be signed by each State when it was prepared to commit to work toward becoming NEMSIS compliant. Currently, all but two states have signed the memorandum.

Successive Year Grants

SAFETEA-LU provides that a State may qualify for a successive year grant by (a) certifying that an assessment or audit of its highway safety and data and traffic records system has been conducted or updated within the preceding 5 years (an “assessment” or “audit”), (b) certifying that its TRCC continues to operate and supports the Strategic Plan, (c) specifying how section 408 grant funds and any other funds of the State are to be used to address the needs and goals identified in the Strategic Plan, (d) demonstrating measurable progress toward achieving the goals and objectives identified in its Strategic Plan (“measurable progress”), and (e) submitting a current report on the State's progress in implementing its Strategic Plan (a “Current Report”). In addition, the State must certify that it has adopted and uses the Model Data Elements, or that section 408 grant funds it receives will be used toward adopting and using the maximum number of such Model Data Elements as soon as practicable.

Assessment or Audit Requirement

In order to qualify for a successive year grant, SAFETEA-LU requires a State to certify that an assessment or audit of its highway safety data and traffic records system has been conducted or updated within the preceding 5 years. The section 411 program contained a similar assessment requirement. In arranging for assessments of their highway safety data and traffic records systems since 2000, States have relied on the assessment requirement detailed in the section 411 regulation. Consequently, consistent with State practice under section 411, an assessment or audit used by a State to meet the section 408 Program's assessment or audit requirement should be (a) an in-depth, formal review of a State's highway safety data and traffic records system that addresses the criteria in NHTSA's Traffic Records Highway Safety Program Advisory, (b) that generates an impartial report on the status of the highway safety data and traffic records system in the State, and (c) that is conducted by an organization or group that is knowledgeable about highway safety data and traffic records systems, but independent from the organizations involved in the administration, collection and use of the highway safety data and traffic records systems in the State.

Measurable Progress Requirement

SAFETEA-LU requires that a State demonstrate measurable progress towards achieving the goals and objectives identified in its Strategic Plan. As discussed above, under the section 411 program, States incorporated into their Strategic Plans the performance-based measures detailed in Appendix 3. Consistent with State practice under section 411 and to avoid the imposition of new burdens, in demonstrating measurable progress in a Current Report, States should reference performance-based measures identified in Appendix 3, both as baselines or benchmarks for and as gauges of their progress in implementing their Strategic Plans.

Current Report Requirement

SAFETEA-LU requires that a State submit a Current Report on its progress in implementing its Strategic Plan. The section 411 program contained a similar report requirement in order to qualify for a successive year grant. In accordance with SAFETEA-LU, a Current Report should (a) use performance-based measures, including baseline or benchmark measures, to demonstrate measurable progress toward achieving the goals and objectives identified in a State's Strategic Plan and (b) specify how the State will use new or additional section 408 grant funds and other State funds to address the needs and goals identified in its Strategic Plan. A Current Report also should discuss a State's planned expenditures and measurable progress in terms of specific projects and systems, document any changes in its Strategic Plan, and address recommendations contained in the State's most recent traffic records assessment or audit.⁷

⁷ See footnote 1 above.

In lieu of submitting a Current Report in support of a successive year section 408 grant application, a State may submit its most recent Annual Report (discussed below in the section entitled Reporting Requirements). However, in order to satisfy section 408's Current Report requirement, an Annual Report must demonstrate Measurable Progress using performance-based measures and adequately identify the State's expenditures in support of its Strategic Plan, as required by SAFETEA-LU. A State that submits an outdated or incomplete Annual Report in lieu of a Current Report runs the risk of failing to qualify for a successive year grant.

Eligibility

The 50 states, the District of Columbia, Puerto Rico, the Virgin Islands, Guam, American Samoa, the Commonwealth of the Northern Mariana Islands, and Indian tribes through the Bureau of Indian Affairs are eligible to apply for grants under the Section 408 Program.

Application Procedures

To apply for a first fiscal year grant, a State must submit the certification required by Appendix 1, signed by the Governor's Representative for Highway Safety, to the appropriate NHTSA Administrator no later than June 15 of the fiscal year. To apply for a successive fiscal year grant, a State must submit the certification required by Appendix 2, signed by the Governor's Representative for Highway Safety, to the appropriate NHTSA Administrator no later than June 15 of the fiscal year.

Award Notification

NHTSA will review the information referenced in each State's certification for compliance with section 408 and notify qualifying States in writing of grant awards.

Eligible Uses of Grant Funds

As prescribed in SAFETEA-LU, States may use section 2006 grant funds for:

○ Improving the timeliness, accuracy, completeness, uniformity, integration and accessibility of State traffic safety data needed to identify national, State and local highway and traffic safety priorities; ⁸

⁸ This would include the use of section 408 grant funds to adopt and use the MMUCC and NEMSIS data elements.

○ Evaluating the effectiveness of efforts to improve State traffic safety data;

○ Linking State traffic safety data systems with other State data systems, including those containing medical, roadway and economic data; and

○ Improving the compatibility and interoperability of State data systems with national traffic safety data systems and data systems of other States to enhance the observation and analysis of national trends in crash occurrences, rules, outcomes, and circumstances.

Financial Accounting and Administration

Within 30 days after notification of award, but in no event later than September 12, States must submit electronically to the agency a program cost summary (HS Form 217) obligating the funds to the Section 408 Program. Submission of the program cost summary is necessary to ensure proper accounting for federal funds and is a precondition to receiving grant funds. SAFETEA-LU requires that a State maintain its aggregate expenditures from all other sources for highway safety data programs at or above the average level of such expenditures maintained by the State in FY 2003 and FY 2004. The Federal share of programs funded under this section shall not exceed 80 percent, except that the Federal share may be increased for Indian tribes, as provided by 23 U.S.C. 402(d).

Reporting Requirements

Each fiscal year until all section 408 grant funds are expended, States should carefully document how they intend to use the NHTSA-administered funds in the Highway Safety Plan they submit pursuant to 23 U.S.C. 402 (or in an amendment to that plan) and detail the program activities accomplished in the Annual Report they submit pursuant to 23 CFR 1200.33. In addition, an Annual Report needs to account for the status of all funds awarded under section 408 and include a list of projects implemented in the past fiscal year, brief descriptions of activities completed, and any problems encountered. As discussed above in the section entitled Current Report, a State submitting its Annual Report in satisfaction of section 408's Current Report Requirement should ensure that its Annual Report also contains adequate project and system-specific information to demonstrate Measurable Progress, using performance-based measures, and adequately identifies the State's expenditures in support of its Strategic Plan.

Appendix 1: State Traffic Safety Information System Improvement Grant (23 U.S.C. 408)

First Year Certification

State (or Commonwealth):

Fiscal Year:

I hereby certify that, pursuant to Section 408, the State:

• Has established a highway safety data and traffic records coordinating committee (“TRCC”);

• Has developed a multiyear highway safety data and traffic records system strategic plan (“Strategic Plan”);

• Has adopted and is using the MMUCC and NEMSIS data elements, or that 408 grant funds it receives will be used toward adopting and using the maximum number of MMUCC and NEMSIS data elements as soon as practicable; and

• Will make available or submit to NHTSA its Strategic Plan and documentation of the TRCC's membership, organization and authority;

and that, if awarded Section 408 grant funds, the State will:

• Use the funds only to evaluate, improve and link its highway safety data and traffic records system, in accordance with the eligible uses detailed in 23 U.S.C. 408;

• Administer the funds in accordance with 49 CFR Part 18; and

• Maintain its aggregate expenditures from all other sources for highway safety data programs at or above the average level of such expenditures maintained by the State in FY 2003 and FY 2004.

Governor's Highway Safety Representative

Date

Appendix 2: State Traffic Safety Information System Improvement Grant (23 U.S.C. 408)

Successive Year Certification

State (or Commonwealth)

Fiscal Year:

I hereby certify that, pursuant to Section 408, the State has:

• Had an Assessment or Audit of the State's highway safety data and traffic records systems, conducted or updated within the preceding 5 years;

• A TRCC that continues to operate and supports the Strategic Plan; and

• Adopted and is using the MMUCC and NEMSIS data elements, or that 408 grant funds it receives will be used toward adopting and using the maximum number of MMUCC and NEMSIS data elements as soon as practicable;

and that the State will make available or provide to NHTSA:

• A Current Report or Annual Report demonstrating the State's measurable progress in implementing the Strategic Plan;

• An Assessment or Audit of the State's highway safety data and traffic records systems, conducted or updated within the preceding 5 years; and

• To the extent that the TRCC charter or membership has changed since the State's previous 408 application, an updated charter or membership list;

and that, if awarded Section 408 grant funds, the State will:

• Use the funds only to evaluate, improve and link its highway safety data and traffic records systems, in accordance with the eligible uses detailed in 23 U.S.C. 408;

• Administer 408 grant funds in accordance with 49 C.F.R. Part 18; and

• Maintain its aggregate expenditures from all other sources for highway safety data programs at or above the average level of such expenditures maintained by the State in FY 2003 and FY 2004.

Governor's Highway Safety Representative

Date

Appendix 3: Performance-Based Measures

Following are the standardized, quantitative measurements of data quality used to gauge both a State's baseline or benchmark for and its progress towards achieving the goals and objectives identified in its Strategic Plan:

Timeliness

Consistency

Completeness

Accuracy

Accessibility

Data integration with other information

The definition of each performance-based measure and its relative significance may vary for each of a State's information systems, including its crash, vehicle, driver, enforcement/adjudication, and injury surveillance systems.

Crash Information Quality

Timeliness—The information should be available within a time frame to be currently meaningful for effective analysis of the State's crash experience, preferably within 90 days of a crash.

Consistency—The information should be consistent with nationally accepted and published guidelines and standards, for example:

Model Minimum Uniform Crash Criteria (MMUCC).

Manual on Classification of Motor Vehicle Traffic Accidents, 6th Edition, ANSI D16.1-1996.

Data Element Dictionary for Traffic Records Systems, ANSI D20.1, 1993.

EMS Data Dictionary (Uniform Pre-Hospital Emergency Medical Services Data Conference). (Note: Currently the National EMS Information System (NEMSIS) Dataset and Data Dictionary, Version 2.2 or later.)

The information should be consistent among reporting jurisdictions; i.e., the same reporting threshold should be used by all jurisdictions and the same set of core data elements should be reported by all jurisdictions.

Should it become necessary to change or modify a data element or to change the values of data elements, this should be clearly documented. Frequently, data element values are expanded to provide greater detail than previously (e.g., trucks involved in crashes were previously coded as light or heavy; the new values are changed to “under 10,000 pounds, 10,001-20,000 pounds, greater than 20,000 pounds).

Completeness—The information should be complete in terms of:

All reportable crashes throughout the State are available for analysis.

All variables on the individual crash records are completed as appropriate.

Accuracy—The State should employ quality control methods to ensure accurate and reliable information to describe individual crashes (e.g., validity and consistency checks in the data capture and data entry processes, feedback to jurisdictions submitting inaccurate reports) and the State crash experience in the aggregate (e.g., edit checks to determine if specific data variables or categories are possibly under- or over-reported such as putting all unknown crash times into a specific category rather than using imputation methods).

Accessibility—The information should be readily and easily accessible to the principal users of these databases containing the crash information for both direct (automated) access and periodic outputs (standard reports) from the system.

Data Integration—Crash information should be capable of linkage with other information sources through the use of common identifiers where possible and permitted by law. Where common file identifiers or linking variables are not available, some consideration should be given to file linkage using probabilistic linkage methods.

Roadway Information Quality

Timeliness—The information should be updated as required to produce valid analysis. This implies that changes on the roadway (e.g., construction, sign improvements) should be available for analysis as soon as the project is completed.

Consistency—The same data elements should be collected over time and for various classes of roadways. Should it become necessary to change or modify a data element or to change the values of data elements, this should be clearly documented.

Completeness—The information should be complete in terms of the miles of roadway, the trafficway characteristics, the highway structures, traffic volumes, traffic control devices, speeds, signs, etc.

Accuracy—The State should employ methods for collecting and maintaining roadway data that produces accurate data and should make use of current technologies designed for these purposes.

Accessibility—The information should be readily and easily accessible to the principal users of these databases containing the roadway information for both direct (automated) access and periodic outputs (standard reports) from the files.

Data Integration—In order to develop viable traffic safety policies and programs, the roadway information must be linked to other information files through common identifiers such as location reference point. Integration should also be supported between State and local systems.

Vehicle Information Quality

Timeliness—The information should be updated at least annually.

Consistency—The same data elements should be collected over time and they should be consistent with the data elements contained in the other components of the traffic records system. Should it become necessary to change or modify a data element or to change the values of data elements, this should be clearly documented.

Completeness—The information should be complete in terms of vehicle ownership, registration, type, VIN, etc. Information on vehicle miles traveled (VMT) by type or class of vehicle should be available. For commercial vehicles, completeness also involves collection and availability of standard data elements (such as the NGA elements, a set of data developed and recommended by the National Governors' Association for collection of data from crashes involving commercial vehicles).

Accuracy—The State should employ methods for collecting and maintaining vehicle data that produces accurate data and should make use of current technologies designed for these purposes. This includes the use of bar-coded vehicle registration forms that allow scanning of vehicle registration information directly onto appropriate forms (citation, crash, other forms).

Accessibility—The information should be readily and easily accessible to the principal users of these databases containing the vehicle information for both direct (automated) access and periodic outputs (standard reports) from the system, consistent with State confidentiality requirements.

Data Integration—Vehicle information should be capable of linkage with other information sources and use common identifiers (e.g., VIN, Crash Reports Number, etc.) where possible and permitted by law.

Driver Information Quality

Timeliness—Routine license issuance information should be updated at least weekly. Adverse actions (license suspension, traffic conviction) should be posted daily.

Consistency—Information maintained on the State's Driver File should be compatible for exchange with other driver-related systems such as the National Driver Register (NDR), the Commercial Driver License Information System (CDLIS), and other applications for interstate exchange of driver records, especially those facilitated via the American Association of Motor Vehicle Administrators Telecommunications Network (AAMVANet).

Completeness—The information should be complete in terms of data elements (e.g., unique personal identifiers and descriptive data such as name, date of birth, gender) and complete in terms of all prior driving history, especially adverse actions received from other States either while licensed elsewhere or while driving in other States.

Accuracy—The State should employ methods for collecting and maintaining driver information that makes use of current technologies (e.g., magnetic-stripe, bar-codes, smart-cards).

Accessibility—The information should be readily and easily accessible to the principal users of these databases, including driver licensing personnel, law enforcement officers, the courts, and for general use in highway safety analysis. The information should be available electronically for individual record access, and technology should be available to support automated downloading of summary data sets for analytical purposes, provided that appropriate safeguards are in place to protect individual confidentiality within the guidelines established by the State.

Data Integration—Driver information should be capable of linkage with other information sources and use common identifiers (e.g., driver license number, citation number, crash report number) where possible and permitted by law. Updates of driver information from courts should be accomplished through linkages, preferably electronic, to the driver history data.

Citation/Adjudication Information Quality

Timeliness—Information from an issued citation should be recorded on a statewide citation file as soon as the citation is filed in the court of jurisdiction. Information regarding the disposition of a citation should be entered on the citation file, as well as on the driver history record, immediately after adjudication by the courts.

Consistency—All jurisdictions should use a uniform traffic citation form, and the information should be uniformly reported throughout all enforcement jurisdictions.

Completeness—All citations issued should be recorded in a statewide citation file with all variables on the form completed including the violation type; the issuing enforcement agency; violation location; a cross reference to a crash report, if applicable; and BAC, where applicable, etc. All dispositions from all courts should be forwarded for entry on the driver history record.

Accuracy—The State should employ quality control methods to ensure accurate and reliable information is reported on the citation form and updated on the citation and driver history files. The use of mag-stripe, bar-code, smart-card scanner technology to directly input driver information onto the citation form is encouraged.

Accessibility—The information should be readily and easily accessible to the principal users, particularly:

Driver control personnel—to take timely license sanction actions when appropriate. Law enforcement personnel—for operational analysis and allocation of resources. Agencies with administrative oversight responsibilities related to the courts—for monitoring court activity regarding the disposition of traffic cases.

Court officials—to assess traffic case adjudication workload and activity.

Data Integration—Citation information should be capable of linkage with other information sources, such as the crash and driver history data, and use common identifiers (e.g., crash report number, driver license number) where possible and permitted by law.

Injury Surveillance Systems Information Quality

Timeliness—Ideally, the medical data on an injury should be available within an Injury Surveillance System (ISS) in the same time frame as data about the crash is available elsewhere within the traffic records system. However, the medical record on the individual may be incomplete initially because local protocols dictate that the medical record is only placed in the ISS when the patient leaves the health care system (e.g., discharged). Every effort should be made to integrate the ISS record with the crash data as soon as the medical records become available.

Consistency—The reporting of EMS run data, hospital ED and admission data, trauma registry data, and long term health care data should be consistent with statewide formats which should follow national standards such as ICD-9-CM, as published by the Centers for Disease Control (CDC), the use of Injury Severity Scale standards, etc.

Completeness—Although a trauma-registry-based ISS can provide a valuable source of ISS information, it cannot provide a complete picture of the injuries within a community or State. Where possible, the ISS should represent a consensus of all injuries that occur within the community. The ISS should, where feasible, be maintained at a State level but, at a minimum, should be maintained at the local level.

Accuracy—The State should provide local heath care providers with training and support in the accurate coding of injuries and should foster the proper use of the resulting ISS data through education of data users in proper interpretation of these data.

Accessibility—Recognizing the issues of patient and institutional confidentiality, there should be mechanisms in place to balance the demands for data accessibility from end users and the requirements of State and local privacy rules. At a minimum, the traffic safety and injury control communities should be able to access these data in summarized reports designed to address specific needs, including injury type and severity cost data. Ideally, the system should support the creation of “sanitized” extracts of the ISS data for use in research, problem identification, and program evaluation efforts.

Data Integration—The true power of the ISS is recognized when the ISS data are integrated with other traffic records system data such as traffic crash, roadway, and crime data, as well as internally between EMS runs, hospital/ED admission data and discharge data. The ISS should be implemented in a fashion that supports this integration in as efficient a manner as possible. Often GIS systems provide the ideal platform for linkage and interpretation of the ISS and traditional traffic records system data. The use of common identifiers whenever possible within the traditional traffic records system and ISS data systems will facilitate this integration effort.

Issued on: January 30, 2006.
Jacqueline Glassman,
Deputy Administrator.

[FR Doc. E6-1426 Filed 2-1-06; 8:45 am]

BILLING CODE 4910-59-P